DEPARTMENT OF ENERGY

Federal Energy Regulatory Commission

Combined Notice of Filings

Take notice that the Commission has received the following Natural Gas Pipeline Rate and Refund Report filings:

Filings Instituting Proceedings

Docket Numbers: RP19-294-002.

Applicants: Centra Pipelines Minnesota Inc.

Description: eTariff filing per 1430: Form 501G Revised to be effective N/A.

Filed Date: 12/19/18.

Accession Number: 20181219-5031.

Comments Due: 5 p.m. ET 12/27/18.

Docket Numbers: RP19-473-000.

Applicants: Florida Gas Transmission Company, LLC.

Description: Compliance filing Annual Accounting Report filed on 12-19-18 to be effective N/A.

Filed Date: 12/19/18.

Accession Number: 20181219-5001.

Comments Due: 5 p.m. ET 12/31/18.

Docket Numbers: RP19-474-000.

Applicants: Sea Robin Pipeline Company, LLC.

Description: Compliance filing Annual Flowthrough Crediting Mechanism Filing on 12-19-18 to be effective N/A.

Filed Date: 12/19/18.

Accession Number: 20181219-5002.

Comments Due: 5 p.m. ET 12/31/18.

Docket Numbers: RP19-475-000.

Applicants: NGO Transmission, Inc.

Description: § 4(d) Rate Filing: Negotiated Rate Filing to be effective 1/1/2019.

Filed Date: 12/19/18.

Accession Number: 20181219-5028.

Comments Due: 5 p.m. ET 12/31/18.

Docket Numbers: RP19-476-000.

Applicants: Florida Gas Transmission Company, LLC.

Description: Compliance filing New Service Agreement JERA filed 12-19-18 to be effective 2/1/2019.

Filed Date: 12/19/18.

Accession Number: 20181219-5112.

Comments Due: 5 p.m. ET 12/31/18.

Docket Numbers: RP19-477-000.

Applicants: Florida Gas Transmission Company, LLC.

Description: Compliance filing Compliance with CP17-8-000 East-West Project Phase 2 to be effective 2/1/2019.

Filed Date: 12/19/18.

Accession Number: 20181219-5113.

Comments Due: 5 p.m. ET 12/31/18.

Docket Numbers: RP19-478-000.

Applicants: Transcontinental Gas Pipe Line Company.

Description: § 4(d) Rate Filing: Negotiated Rates—Gulf Connector—Early In-Svc to be effective 12/21/2018.

Filed Date: 12/19/18.

Accession Number: 20181219-5189.

Comments Due: 5 p.m. ET 12/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2018.
Nathaniel J. Davis, Sr.,
Deputy Secretary.

[FR Doc. 2018-28262 Filed 12-27-18; 8:45 am]

BILLING CODE 6717-01-P